ENVIRONMENTAL PROTECTION AGENCY

[EPA-R03-OW-2009-0985; FRL-9144-7]

Notice of Public Hearing Regarding Environmental Protection Agency Region III's Proposed Determination To Prohibit, Restrict, or Deny the Specification, or the Use for Specification (Including Withdrawal of Specification), of an Area as a Disposal Site; Spruce No. 1 Surface Mine, Logan County, WV

AGENCY: Environmental Protection Agency (EPA).

ACTION: Notice of public hearing.

SUMMARY: On April 2, 2010, EPA Region III published its Proposed determination to Prohibit, Restrict, or Deny the Specification, or the Use for Specification (including Withdrawal of Specification), of an Area as a Disposal Site; Spruce No. 1 Surface Mine, Logan County, West Virginia in the Federal Register soliciting comments from the public. The permittee is Mingo Logan Coal Company. That notice can be found at http://www.regulations.gov (search for EPA-R03-OW-2009-0985). Relevant documents are also available on EPA's Web site at http://www.epa.gov/region3/mtntop/spruce1.html. EPA has decided that it would be in the public interest to conduct a public hearing on the Proposed 404(c) Determination for the Spruce No. 1 Surface Mine.

Date and Location: The U.S. Environmental Protection Agency, Region III, (EPA) will hold a public hearing on Tuesday, May 18, 2010, at 7 p.m. at the Charleston Civic Center (South Hall), located at 200 Civic Center Drive, Charleston, WV 25301. Registration will begin at 5 p.m.

FOR FURTHER INFORMATION CONTACT: For information regarding this notice of a public hearing, contact the Office of Environmental Programs; Environmental Assessment and Innovation Division; U.S. Environmental Protection Agency, Region III; 1650 Arch Street; Philadelphia, Pennsylvania 19103. The telephone number for information about this hearing and to sign up to give oral comments is 877-368-3552. The EPA office can also be reached via electronic mail at R3_Spruce_Surface_Mine@epa.gov. This mailbox is for information on the notice only and is not the official comment submission forum. If you would like to submit written comments you may do so at the public hearing or on-line at http://www.regulations.gov (search for EPA-R03-OW-2009-0985). For those who have special needs and require auxiliary aids and/or services to fully participate in the public hearing, please call 215-814-2760.

SUPPLEMENTARY INFORMATION: The purpose of the public hearing is to obtain public testimony or comment on EPA's proposed 404(c) action on the Spruce No. 1 Mine project. The Regional Administrator will designate the official (Presiding Officer) who will preside at the public hearing. Any person may appear at the hearing and submit oral and/or written statements or data and may be represented by counsel or other authorized representatives.

In anticipation of a large turnout for the hearing, advanced sign-up is recommended for all, but especially for those planning to make oral comments due to time and capacity limitations. The following information is requested for sign-up: First name, Last name, City, State, Email address, and Phone number. To sign up, go to http://www.epa.gov/region3/mtntop/spruce1hearing.html and click on the link, “Registering ahead of time is recommended.” You may also sign up by phone at 877-368-3552. You will receive confirmation that your registration has been received. Speakers will be on a first-registered basis, followed by those who sign up for public comment on-site the day of the public hearing. Audio-visual equipment will not be provided. If you would like to submit written comments you may do so at the public hearing or on-line at http://www.regulations.gov (search for EPA-R03-OW-2009-0985).

To maximize the number of individuals who are able to speak at the hearing, oral statements will be limited to two minutes per person. The Presiding Officer will establish other reasonable limits on the nature and length of time for oral presentation. There will be no direct questioning of any hearing participant, although the Presiding Officer may make appropriate inquiries of any such participant. EPA will not respond to questions/comments during the hearing. EPA will consider the comments received at the public hearing and other comments submitted pursuant to the instructions set forth in the public notice at http://www.regulations.gov (search for EPA-R03-OW-2009-0985) when it develops its Final Determination to Prohibit, Restrict, or Deny the Specification, or the Use for Specification (including Withdrawal of Specification), of an Area as a Disposal Site; Spruce No. 1 Surface Mine, Logan County, West Virginia.

Dated: April 28, 2010.
Shawn M. Garvin,
Regional Administrator, EPA Region III.

[FR Doc. 2010-10415 Filed 5-3-10; 8:45 am]

BILLING CODE 6560-50-P